DEPARTMENT OF TRANSPORTATION

Federal Aviation Administration

14 CFR Part 39

[Docket No. 2001-NM-284-AD; Amendment 39-13469; AD 2004-03-25]

RIN 2120-AA64

Airworthiness Directives; Airbus Model A330 and A340-200 and -300 Series Airplanes

AGENCY: Federal Aviation Administration, DOT.

ACTION: Final rule.

SUMMARY: This amendment adopts a new airworthiness directive (AD), applicable to certain Airbus Model A330 and A340-200 and -300 series airplanes, that requires repetitive inspections for proper installation of the parachute pins located in the escape slides/rafts at the door 3 Type I emergency exits on the left and right sides of the airplane; a one-time inspection of the associated electrical harnesses for the escape slides/rafts for proper routing and installation; and corrective actions if necessary. This AD also requires adjustment of the speed lacing for the soft covers of the escape slides/rafts, which will terminate the repetitive inspections. This action is necessary to prevent failure of the escape slides/rafts to deploy correctly at door 3 Type I emergency exits, which could result in the escape slides/rafts being unusable during an emergency evacuation, and consequent injury to passengers or crew members. This action is intended to address the identified unsafe condition.

DATES: Effective March 17, 2004.

The incorporation by reference of certain publications listed in the regulations is approved by the Director of the Federal Register as of March 17, 2004.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION: A proposal to amend part 39 of the Federal Aviation Regulations (14 CFR part 39) to include an airworthiness directive (AD) that is applicable to certain Airbus Model A330 and A340-200 and -300 series airplanes was published in the Federal Register on December 5, 2003 (68 FR 67984). That action proposed to require repetitive inspections for proper installation of the parachute pins located in the escape slides/rafts at the door 3 Type I emergency exits on the left and right sides of the airplane; a one-time inspection of the associated electrical harnesses for the escape slides/rafts for proper routing and installation; and corrective actions if necessary. That action also proposed to require adjustment of the speed lacing for the soft covers of the escape slides/rafts, which would terminate the repetitive inspections.

Comments

Interested persons have been afforded an opportunity to participate in the making of this amendment. Due consideration has been given to the one comment received.

Request To Clarify Paragraph (c), Parts Installation

The commenter states that the affected slide part numbers and serial number range are listed in the Applicability section of the proposed AD, but only the affected part numbers are listed in paragraph (c), Parts Installation, of the proposed AD. The commenter requests that the serial number range be included in paragraph (c) to coincide with the Applicability section. The commenter states that this change would clarify that slide/raft assemblies with serial numbers later than those in the applicability section are not affected by the AD.

The FAA concurs with the commenter's request to add the serial number range which appears in the Applicability section of this final rule to paragraph (c). We find that this change will clarify that slide/raft assemblies with serial numbers later than those listed in paragraph (c) are not affected by this final rule. We have clarified paragraph (c) of this final rule accordingly.

Conclusion

After careful review of the available data, including the comment noted above, we have determined that air safety and the public interest require the adoption of the rule with the change described previously. We have determined that this change will neither increase the economic burden on any operator nor increase the scope of the AD.

Cost Impact

We estimate that 14 Model A330 series airplanes of U.S. registry will be affected by this AD, that it will take approximately 1 work hour per airplane to accomplish the required inspections, and that the average labor rate is $65 per work hour. Based on these figures, the cost impact on U.S. operators of the inspections required by this AD is estimated to be $910, or $65 per airplane.

It will take approximately 3 work hours per airplane to adjust the speed lacing for the escape slide/raft soft cover at an average labor rate of $65 per work hour. Based on these figures, the cost impact on U.S. operators for the adjustment of the speed lacing for the escape slide/raft soft cover required by this AD is estimated to be $2,730, or $195 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Currently, there are no Model A340 series airplanes on the U.S. Register. However, should an affected airplane be imported and placed on the U.S. Register in the future, it will require 1 work hour per airplane to accomplish the inspections and 3 work hours per airplane to accomplish the adjustment of the speed lacing for the escape slide/raft soft cover, at an average labor rate of $65 per work hour. Based on these figures, the cost impact of the AD for Model A340 operators would be $260 per airplane.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-03-25 Airbus: Amendment 39-13469. Docket 2001-NM-284-AD.

Applicability: Model A330 and A340-200 and -300 series airplanes equipped with an escape slide/raft having any part number (P/N) 7A1509-101 through 7A1509-117 inclusive, and any serial number AD001 through AD0855 inclusive, at door 3 Type I emergency exits; certificated in any category.

Compliance: Required as indicated, unless accomplished previously.

To prevent failure of the escape slides/rafts to deploy correctly at door 3 Type I emergency exits, which could result in the escape slides/rafts being unusable during an emergency evacuation, and consequent injury to passengers or crew members, accomplish the following:

Inspections

(a) Within 550 flight hours after the effective date of this AD: Do a detailed inspection of the escape slides/rafts located at door 3 Type I emergency exits, on the left and right sides of the airplane, for correct installation of the parachute pins, and a one-time detailed inspection of the associated electrical harnesses for correct installation of the quick-disconnect connector, in accordance with paragraphs 4.1 and 4.2 of Airbus All Operator Telex (AOT) A330-25A3154 (for Model A330 series airplanes) or A340-25A4172 (for Model A340-200 and -300 series airplanes), both dated July 26, 2001; as applicable. If any parachute pin or quick disconnect connector is incorrectly installed, before further flight, do the corrective actions per the applicable AOT. Repeat the inspections of the parachute pins thereafter at intervals not to exceed 1,000 flight hours until accomplishment of paragraph (b) of this AD.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Note 2: Repetitive inspections of the electrical harnesses are not required.

Terminating Action for Repetitive Inspections

(b) Within 18 months after the effective date of this AD: Adjust the speed lacing for the soft covers of the escape slides/rafts located at door 3 Type I emergency exits, in accordance with paragraph 4.3 of Airbus AOT A330-25A3154 (for Model A330 series airplanes) or A340-25A4172 (for Model A340-200 and -300 series airplanes), both dated July 26, 2001; as applicable. This adjustment terminates the repetitive inspections of the parachute pins required by paragraph (a) of this AD.

Note 3: The AOTs reference Goodrich Aircraft Evacuation Systems Alert Service Bulletin 7A1509-25A324, dated July 16, 2001, as an additional source of service information for adjusting the speed lacing.

Parts Installation

(c) As of the effective date of this AD, no person may install on any airplane an escape slide/raft having any P/N 7A1509-101 through 7A1509-117 inclusive, and any serial number AD001 through AD0855 inclusive, unless the parachute pin has been inspected and the speed lacing has been adjusted in accordance with paragraphs (a) and (b) of this AD.

Alternative Methods of Compliance

(d) In accordance with 14 CFR 39.19, the Manager, International Branch, ANM-116, FAA, Transport Airplane Directorate, is authorized to approve alternative methods of compliance for this AD.

Incorporation by Reference

(e) The actions shall be done in accordance with Airbus All Operator's Telex A330-25A3154, dated July 26, 2001; or Airbus All Operator's Telex A340-25A4172, dated July 26, 2001; as applicable. This incorporation by reference was approved by the Director of the Federal Register in accordance with 5 U.S.C. 552(a) and 1 CFR part 51. Copies may be obtained from Airbus, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directives 2001-359(B) R3, dated October 30, 2002, and 2001-360(B) R1, dated February 6, 2002.

Effective Date

(f) This amendment becomes effective on March 17, 2004.

Issued in Renton, Washington, on February 3, 2004.
Ali Bahrami,
Acting Manager, Transport Airplane Directorate, Aircraft Certification Service.

[FR Doc. 04-2682 Filed 2-10-04; 8:45 am]

BILLING CODE 4910-13-P